DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by July 7, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (ADDRESSES above).

Applicant: Iowa State University, PRT-084859

The applicant requests a permit to import biological samples and discarded shells from wild caught specimens of two species of turtle (Apalone ater and Terrapene coahuila) from Mexico for scientific research. This notification covers activities to be conducted by the applicant over a five-year period.

Applicant: Alberto Santos Jr., The Woodlands, TX, PRT-086636

The applicant requests a permit to import the sport-hunted trophy of one male bontebok (Damaliscus pygargus pygargus) culled from a captive herd maintained under the management program of the Republic of South Africa, for the purpose of enhancement of the survival of the species.

Applicant: Richard E. Heckert, Kennett Square, PA, PRT-085827

The applicant requests a permit to import the sport-hunted trophy of one male bontebok (Damaliscus pygargus pygargus) culled from a captive herd maintained under the management program of the Republic of South Africa, for the purpose of enhancement of the survival of the species.

Endangered Marine Mammals and Marine Mammals

The public is invited to comment on the following applications for a permit to conduct certain activities with endangered marine mammals and/or marine mammals. The applications were submitted to satisfy requirements of the Endangered Species Act of 1973, as amended (16 U.S.C. 1531, et seq.) and/or the Marine Mammal Protection Act of 1972, as amended (16 U.S.C. 1361 et seq.), and the regulations governing endangered species (50 CFR part 17) and/or marine mammals (50 CFR part 18). Written data, comments, or requests for copies of the complete applications or requests for a public hearing on these applications should be submitted to the Director (ADDRESSES above). Anyone requesting a hearing should give specific reasons why a hearing would be appropriate. The holding of such a hearing is at the discretion of the Director.

Applicant: Robert J. Merkle, El Dorado, AR, PRT-086954

The applicant requests a permit to import a polar bear (Ursus maritimus) sport hunted from the Lancaster Sound polar bear population in Canada for personal use.

Applicant: Kevin M. Libby, Reno, NV, PRT-087507

The applicant requests a permit to import a polar bear (Ursus maritimus) sport hunted from the Viscount Melville polar bear population in Canada for personal use.

Applicant: Walter O. Kirby, Sacramento, CA, PRT-087684

The applicant requests a permit to import a polar bear (Ursus maritimus) sport hunted from the Lancaster Sound polar bear population in Canada for personal use.

Applicant: Richard R. Childress, Lexington, NC, PRT-087563

The applicant requests a permit to import a polar bear (Ursus maritimus) sport hunted from the Southern Beaufort polar bear population in Canada for personal use.

Applicant: Raymond K. Yu, Los Angeles, CA, PRT-087181

The applicant requests a permit to import a polar bear (Ursus maritimus) sport hunted from the Lancaster Sound polar bear population in Canada for personal use.

Applicant: Lonnie R. Henriksen, Arlington, SD, PRT-087596

The applicant requests a permit to import a polar bear (Ursus maritimus) sport hunted from the Southern Beaufort polar bear population in Canada for personal use.

Dated: May 21, 2004.
Monica Farris,
Senior Permit Biologist, Branch of Permits, Division of Management Authority.

[FR Doc. 04-12735 Filed 6-4-04; 8:45 am]

BILLING CODE 4310-55-P